DEPARTMENT OF HOMELAND SECURITY

[Docket No. DHS-2022-0022]

Notice of the Establishment of the Tribal Homeland Security Advisory Council; Solicitation of Inaugural Members

AGENCY: Department of Homeland Security (DHS), Office of Partnership and Engagement (OPE).

ACTION: Notice of the establishment of a Tribal Homeland Security Advisory Council; solicitation of inaugural members.

SUMMARY: The Department of Homeland Security, through the Office of Partnership and Engagement, is establishing the Tribal Homeland Security Advisory Council (THSAC). The goal of the THSAC is to provide recommendations on policies, programs, and initiatives that the Department is undertaking that have implications for tribes and Tribal Nations. The Office of Partnership and Engagement seeks inaugural members of the THSAC.

DATES: Applications to join the THSAC will be accepted until 11:59 p.m., Eastern Daylight Time, on October 10, 2022.

ADDRESSES: Nominations may be submitted via first class mail to Colleen Silva, Office of Partnership and Engagement, MS 0385, Department of Homeland Security, 2707 Martin Luther King Jr Ave. SE, Washington, DC 20528-0385 or via email to TribalHSAC@hq.dhs.gov.

FOR FURTHER INFORMATION CONTACT: Colleen Silva, Associate Director, Office of Intergovernmental Affairs, Office of Partnership and Engagement, telephone 202-282-9930, email TribalHSAC@hq.dhs.gov.

SUPPLEMENTARY INFORMATION: The THSAC will provide recommendations and advice on matters related to intergovernmental relations including, but not limited to: (a) DHS's implementation of Executive Order 13175, Consultation and Coordination With Indian Tribal Governments, and the President's January 26, 2021, Memorandum on Tribal Consultation and Strengthening Nation-to-Nation Relationships; (b) implementation and execution of the DHS Tribal Consultation Policy; and (c) upholding the Federal Government's and DHS's trust and treaty responsibilities to Tribal Nations. The duties of the Council are solely advisory and shall extend only to the submission of advice and recommendations.

In order for DHS to fully leverage broad-ranging experience and education, the THSAC shall be diverse with regard to leadership, profession, and technical expertise. DHS is committed to pursuing opportunities, consistent with applicable law, to compose a council that reflects the diversity of Tribal Nations. Members of the THSAC shall be appointed based on their qualifications to serve as representatives of a Tribal Nation or tribal organization. Such qualifications to be considered are listed below:

a. Educational background (e.g., Native American studies, homeland security, Indian Law, or public policy);

b. Leadership, experience, and accomplishments (e.g., tribal elected officials, tribal association appointment, tribal coordination efforts); and

c. Employment and membership in associations (e.g., tribal government employee, tribal programs volunteer, active in tribal associations or groups).

With the establishment of the THSAC, the Office of Partnership and Engagement is accepting submissions of interest to be members of the Council.

When submitting nominations, please do not provide any sensitive personal information. Nominations should be submitted via email or via first class mail, with the required information in the body of the email or in an attachment. Nominations must include the following:

1. The nominee's name, contact information (i.e., email and phone number), location, and Tribal Nation, Alaska Native Corporation, or tribal organization affiliation;

2. A summary resume that describes the individual's qualifications and experience with respect to the subject matter areas listed above (not to exceed five pages); and

3. A statement acknowledging that support from the Tribal Nation or tribal organization will be required if selected. (Support meaning the Tribal Nation or tribal organization agrees with the individual's participation.)

Do not include sensitive personal information, such as dates of birth, home addresses, Social Security numbers, etc. Note too, that Nominees will be vetted for national security considerations.

Please submit nominations no later than October 10, 2022, via first class mail or email to the addresses in the ADDRESSES section above.

Federal Advisory Committee Act (“FACA”) Exemption: Due to the special relationship between Tribal Nations and the Federal Government and the sensitive nature of the discussions that will take place during committee meetings, the THSAC is exempted by the Secretary of Homeland Security from the public notice, reporting, and open meeting requirements of the Federal Advisory Committee Act (Pub. L. 92-463, 5 U.S.C. App. 2), pursuant to the Homeland Security Act of 2002, 871(a) [(6 U.S.C. 451(a))].

Michael J. Miron,
Committee Management Officer.

[FR Doc. 2022-19352 Filed 9-7-22; 11:15 am]

BILLING CODE 9112-FN-P